FEDERAL COMMUNICATIONS COMMISSION

Sunshine Act Meeting; Revised Sunshine Notice; Open Commission Meeting; Thursday, August, 27, 2009

Date: August 26, 2009.

The Federal Communications Commission will hold an Open Meeting on the subjects listed below on Thursday, August 27, 2009, which is scheduled to commence at 10:00 a.m. in Room TW-C305, at 445 12th Street, S.W., Washington, D.C.

The Meeting will also include presentations on the status of the Commission's processes for development of a National Broadband Plan, and for development of FCC Reform, followed by presentation of the Excellence in Engineering, Excellence in Economics Analysis and the Employee of the Year Awards.

ITEM NO. | BUREAU | SUBJECT
1 | WIRELESS TELE-COMMUNICATIONS & OFFICE OF ENGINEERING AND TECHNOLOGY | TITLE: Fostering Innovation and Investment in the Wireless Communications Market; A National Broadband Plan For Our Future (GN Docket No. 09-51) SUMMARY: The Commission will consider a Notice of Inquiry to seek to understand better the factors that encourage innovation and investment in wireless and to identify concrete steps the Commission can take to support and encourage further innovation and investment in this area.
2 | WIRELESS TELE-COMMUNICATIONS | TITLE: Implementation of Section 6002(b) of the Omnibus Budget Reconciliation Act of 1993 (WT Docket No. 09-66); Annual Report and Analysis of Competitive Market Conditions With Respect to Mobile Wireless including Commercial Mobile Services SUMMARY: The Commission will consider a Notice of Inquiry soliciting information for the next annual report to Congress on the status of competition in the mobile wireless market, including commercial mobile services.
3 | CONSUMER AND GOVERNMENTAL AFFAIRS | TITLE: Consumer Information and Disclosure; Truth-in-Billing and Billing Format (CC Docket No. 98-170); IP-Enabled Services (WC Docket No. 04-36) SUMMARY: The Commission will consider a Notice of Inquiry that seeks comment on whether there are opportunities to protect and empower American consumers by ensuring sufficient access to relevant information about communications services.

Federal Communications Commission.
Marlene H. Dortch,
Secretary.

[FR Doc. E9-21016 Filed 8-27-09; 4:15 pm]

BILLING CODE 6712-01-S